NATIONAL SCIENCE FOUNDATION

Advisory Panel for Physiology and Ethology; Notice of Meeting

In accordance with the Federal Advisory Committee Act (Pub. L. 92-463, as amended), the National Science Foundation (NSF) announces the following meeting.

Name: Advisory Panel for Physiology and Ethology (1160).

Date and Time: February 7-9, 2001, 8 a.m.-5 p.m.

Place: National Science Foundation, 4201 Wilson Boulevard, Arlington, VA.

Type of Meeting: Part-Open.

Contact Persons: Dr. Kimberlyn Williams, and Dr. Stephen Vessey, National Science Foundation, 4201 Wilson Boulevard, Room 685, Arlington, VA 22230. Telephone: (703) 292-8421.

Purpose of Meeting: To provide advice and recommendations proposals submitted to the NSF for financial support.

Minutes: May be obtained from the contact person(s) listed above.

Agenda: Open Session: February 8, 2001, 4 p.m. to 5 p.m.—discussion or research trends, opportunities and assessment procedures in Integrative Biology and Neuroscience.

Closed Session: February 7, 2001, 8 a.m. to 5 p.m.; February 8, 2001, 8 a.m. to 4 p.m.; February 9, 2001, 8 a.m. to 5 p.m. To review and evaluate the Doctoral Dissertation Improvement Grants as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: January 8, 2001.
Karen J. York,
Committee Management Officer.

[FR Doc. 01-886 Filed 1-10-01; 8:45 am]

BILLING CODE 7555-01-M